DEPARTMENT OF DEFENSE

GENERAL SERVICES ADMINISTRATION

NATIONAL AERONAUTICS AND SPACE ADMINISTRATION

48 CFR Chapter 1

[Docket FAR 2012-0080, Sequence 6]

Federal Acquisition Regulation; Federal Acquisition Circular 2005-63; Introduction

AGENCIES: Department of Defense (DoD), General Services Administration (GSA), and National Aeronautics and Space Administration (NASA).

ACTION: Summary presentation of an interim rule.

SUMMARY: This document summarizes the Federal Acquisition Regulation (FAR) rule agreed to by the Civilian Agency Acquisition Council and the Defense Acquisition Regulations Council (Councils) in this Federal Acquisition Circular (FAC) 2005-63. A companion document, the Small Entity Compliance Guide (SECG), follows this FAC. The FAC, including the SECG, is available via the Internet at http://www.regulations.gov.

DATES: For effective date and comment date, see separate document which follows.

FOR FURTHER INFORMATION CONTACT: The analyst whose name appears in the table below. Please cite FAC 2005-63 and the specific FAR case number. For information pertaining to status or publication schedules, contact the Regulatory Secretariat at 202-501-4755.

Rule in FAC 2005-63
Subject | FAR Case | Analyst
Iran Threat Reduction | 2012-030 | Davis.

SUPPLEMENTARY INFORMATION: A summary for the FAR rule follows. For the actual revisions and/or amendments made by this FAR case, refer to the document following this item summary. FAC 2005-63 amends the FAR as specified below:

Iran Threat Reduction (FAR Case 2012-030) (Interim)

This interim rule amends the Federal Acquisition Regulation (FAR) to require certifications that implement the expansion of sanctions relating to the energy sector of Iran and sanctions with respect to Iran's Revolutionary Guard Corps, as contained in Titles II and III of the Iran Threat Reduction and Syria Human Rights Act of 2012. This interim rule will not have a significant economic impact on a substantial number of small entities.

Dated: December 3, 2012.
Laura Auletta,
Director, Office of Governmentwide Acquisition Policy, Office of Acquisition Policy, Office of Governmentwide Policy.

Federal Acquisition Circular (FAC) 2005-63 is issued under the authority of the Secretary of Defense, the Administrator of General Services, and the Administrator for the National Aeronautics and Space Administration.

Unless otherwise specified, all Federal Acquisition Regulation (FAR) and other directive material contained in FAC 2005-63 is effective December 10, 2012.

Dated: December 4, 2012.
Linda W. Neilson,
Deputy Director, Defense Procurement and Acquisition Policy (Defense Acquisition Regulations System).
Dated: December 3, 2012.
Laura Auletta,
Acting Senior Procurement Executive, Office of Acquisition Policy, U.S. General Services Administration.
Dated: December 3, 2012.
William P. McNally,
Assistant Administrator for Procurement, National Aeronautics and Space Administration.

[FR Doc. 2012-29638 Filed 12-7-12; 8:45 am]

BILLING CODE 6820-EP-P